DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Rockfish Program: Permits and Reports.

OMB Control Number: 0648-0548.

Form Number(s): None.

Type of Request: Regular (extension of a currently approved information collection).

Number of Respondents: 9.

Average Hours per Response: Application for rockfish cooperative fishing quota, 2 hours; application for intercooperative transfer of cooperative fishing quota, 10 minutes; Rockfish Program Vessel Check-In/Check-Out and Termination of Fishing Report, 10 minutes.

Burden Hours: 50.

Needs and Uses: The Central Gulf of Alaska Rockfish Program (RP) was designed to enhance resource conservation and improve economic efficiency in the rockfish fisheries conducted in the Central Gulf of Alaska by establishing cooperatives that receive exclusive harvest privileges. Through the RP, National Marine Fisheries Service (NMFS) (1) assigns rockfish quota share (QS) and cooperative quota to participants for rockfish primary and secondary species; (2) allows a participant holding a License Limitation Program (LLP) license with rockfish QS to form a rockfish cooperative with other persons; (3) allows holders of catcher/processor LLP licenses to opt-out of rockfish cooperatives each year; (4) includes an entry level longline fishery; (5) establishes sideboard limits, which are limits designed to prevent participants in the RP from increasing their historical effort in other Gulf of Alaska groundfish fisheries; and (6) includes monitoring and enforcement provisions. The Rockfish Program is authorized for until December 31, 2021.

Affected Public: Business or other for-profit organizations.

Frequency: On occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 5, 2018.
Sarah Brabson,
NOAA PRA Clearance Officer.

[FR Doc. 2018-04682 Filed 3-7-18; 8:45 am]

BILLING CODE 3510-22-P